DEPARTMENT OF DEFENSE

Department of the Army, Corps of Engineers

Intent To Prepare an Environmental Impact Statement for the Zoar Levee and Diversion Dam, Dam Safety Modification Study, Tuscarawas County, OH

AGENCY: Department of the Army, U.S. Army Corps of Engineers, DoD.

ACTION: Notice of intent.

SUMMARY: Pursuant to the National Environmental Policy Act (NEPA), the U.S. Army Corps of Engineers (Corps), Huntington District will prepare an Environmental Impact Statement (EIS) to disclose potential impacts to the natural, physical, and human environment resulting from implementation of alternatives formulated to address reliability risks associated with Zoar Levee and Diversion Dam. These high hazard structures do not meet current performance standards and exceed acceptable risk levels. A full array of alternatives will be formulated to meet the purpose and need of this study. After full consideration of all alternatives, the best plan will be selected to achieve acceptable risk levels.

DATES: A public scoping meeting will be held on May 24, 2011 from 7-10 p.m.

ADDRESSES: a. Address all written comments and suggestions concerning this proposed project to Aaron O. Smith, CELRH-PM-PD-R, U.S. Army Corps of Engineers, Huntington District, 502 Eighth Street, Huntington, WV, 25701-2070. Telephone: 304-399-5720. E-mail: zoarlevee@usace.army.mil. Requests to be placed on the mailing list should also be sent to this address.

b. The public scoping meeting location is: Tuscarawas Valley High School, 2637 Tuscarawas Valley Road, NE., Zoarville, OH 44656.

FOR FURTHER INFORMATION CONTACT: Ms. Jami Buchanan, U.S. Army Corps of Engineers, Huntington District, 502 Eighth Street, Huntington, WV, 25701-2070. Telephone: (304)399-5347. E-mail: zoarlevee@usace.army.mil.

SUPPLEMENTARY INFORMATION: 1. Authority: Investigation and justification of modifications for dam safety modifications at completed Corps of Engineers projects is authorized under Section 2033 of the Water Resources Development Act of 2007 (Pub. L. 110-114).

2. Background: a. Guidance for this study is provided in USACE Engineer Regulation 1110-2-1156 that addresses safety of dams.

b. Zoar Levee and Diversion Dam is an appurtenant structure to Dover Dam which is located in Tuscarawas County along the Tuscarawas River approximately 3.5 miles north of the communities of Dover and New Philadelphia. The dam was constructed by the Corps and completed in 1938. Dover Dam is a dry dam and as such does not hold a permanent pool. The Federal government maintains a permanent flowage easement to elevation 916′ above mean sea level (msl) upstream of the dam, which corresponds to the height of the spillway of the dam.

c. The Zoar Levee was constructed in 1937 with a crest elevation of 919′ above msl, which provided three feet of freeboard over the Dover Dam spillway crest of elevation 916′ above msl. The crest elevation of Zoar Levee was raised from elevation 919′ above msl to elevation 928.5′ above msl in 1951. There are approximately 54 properties (approximately 98 buildings including dependencies) located inside the levee at or below the elevation 916′ above msl. Water reaches the levee only when Dover Dam is retaining sufficient flood waters.

d. Zoar Diversion Dam was also constructed in 1937. It is located on Goose Run, approximately 1,000′ upstream of Zoar Levee and was built to control interior drainage within the levee. The Diversion Dam acts as a retention structure for runoff from the Goose Run watershed and redirects flows into a ponding area controlled by the Zoar Levee pump station.

e. There are three separable components associated with the project—the western reach and rock knoll, which combine to form the full levee, and the diversion dam. Each of these components will require a separate “fix” to achieve the tolerable risk guidelines established in Chapter 5 of ER 1110-2-1156, under which this study is being conducted. Therefore, structural measures are being developed for each component that would address the risk associated with that specific piece of the project.

d. Additionally, as per guidance provided in Section 2033 of WRDA 2007, ER 1110-2-1156 and ER 1105-2-100, non-structural measures are also being developed for the project including breaching the levee and/or diversion dam.

f. The cultural and historical significance of the Village of Zoar is well documented. The Village of Zoar is unique in the State of Ohio, being the only physically remaining intact utopian community and a significant collection of early nineteenth century German folk architecture. Much of Zoar was documented in 1936 by the Historic American Building Survey (HABS). This study concluded that Zoar was “the most successful communist experiment ever conducted in the United States” (HABS 1936).

g. The EIS and Dam Safety Modification Report will consider the structural integrity of the levee and dam, their ability to accommodate flood waters as well as transportation, noise, terrestrial, aquatic, economic, environmental justice and cultural resource issues associated with the performance of the levee and dam.

3. Public Participation: a. The Corps of Engineers will conduct a public scoping meeting (see DATES and ADDRESSES) to gain input from interested agencies, organizations, and the general public concerning the content of the EIS, issues and impacts to be addressed in the EIS, and alternatives that should be analyzed.

b. The Corps invites full public participation to promote open communication and better decision-making. All persons and organizations that have an interest in the Zoar Levee and Diversion Dam, Dam Safety Modification Study and the environment are urged to participate in this NEPA evaluation process. Assistance will be provided upon request to anyone having difficulty with learning how to participate.

c. Public comments are welcomed anytime throughout the NEPA process. Formal opportunities for public participation include: (1) Public meetings to be held in or near the Village of Zoar; (2) Anytime during the NEPA process via mail, telephone or e-mail; (3) During Review and Comment on the Draft EIS; and (4) Review of the Final EIS. Schedules and locations will be announced in local news media. Interested parties should submit contact information to be included on the mailing list for public distribution of meeting announcements and documents (See ADDRESSES).

4. Schedule: The Draft Environmental Impact Statement is scheduled to be released for public review and comment in September 2012. The Final Report and Final EIS are scheduled to be completed in January 2013.

Brenda S. Bowen,
Army Federal Register Liaison Officer.

[FR Doc. 2011-10867 Filed 5-3-11; 8:45 am]

BILLING CODE 3720-58-P